DEPARTMENT OF ENERGY

Federal Energy Regulatory Commission

Project No. 13599-001]

Green Power Development, LLC; Notice of Preliminary Permit Application Accepted for Filing and Soliciting Comments, Motions To Intervene, and Competing Applications

On September 3, 2013, Green Power Development, LLC (Green Power) filed an application for a preliminary permit, pursuant to section 4(f) of the Federal Power Act (FPA), proposing to study the feasibility of the Lake 3160 Hydroelectric Project (project) to be located on Lake 3160 near Juneau in Juneau Borough, Alaska. The sole purpose of a preliminary permit, if issued, is to grant the permit holder priority to file a license application during the permit term. A preliminary permit does not authorize the permit holder to perform any land-disturbing activities or otherwise enter upon lands or waters owned by others without the owners' express permission. The project would occupy about 475 acres of lands within the Tongass National Forest managed by the U.S. Forest Service.

The proposed project would use the existing natural lake named Lake 3160 with a surface area of 451 acres, storage capacity of 19,710 acre-feet, and normal water surface elevation of 3,160 feet above mean sea level; and consist of the following new facilities: (1) A siphon intake, directional bore, or 20-foot-high concrete dam with either intakes at the exit of Lake 3160; (2) an above-ground 8,800-feet-long, 20- to 24-inch-diameter penstock; (3) a powerhouse containing one or two generating units with a total installed capacity of 4.995 megawatts; (4) an open-channel tailrace discharging flows to Evelyn Lake; (5) a 7.6-mile-long, 14.4/24.9-kilovolt overhead, underground, or submarine cable transmission line; and (6) appurtenant facilities. The average annual energy production would be 40 gigawatt-hours.

Applicant Contact: Mr. Joel D. Groves, PE, Green Power Development, LLC, 1503 W. 33rd Avenue, #310, Anchorage, Alaska 99503; phone: (907) 258-2420, extension 204.

FERC Contact: Dianne Rodman; phone: (202) 502-6077.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13599-001.

More information about this project, including a copy of the application, can be viewed or printed on the “eLibrary” link of Commission's Web site at http://www.ferc.gov/docs-filing/elibrary.asp. Enter the docket number (P-13599) in the docket number field to access the document. For assistance, contact FERC Online Support.

Dated: September 25, 2013.
Nathaniel J. Davis, Sr.,
Deputy Secretary.

[FR Doc. 2013-23882 Filed 9-30-13; 8:45 am]

BILLING CODE 6717-01-P